Title 3—

The President

Proclamation 7288 of April 8, 2000

Pan American Day and Pan American Week, 2000

By the President of the United States of America

A Proclamation

This year on Pan American Day and during Pan American Week, we celebrate the springtime of a new century in which the fundamental ideals of democracy and human rights are blossoming across our hemisphere. We stand at the threshold of a new era of economic development and prosperity with a common determination to meet the challenges and seize the opportunities that face the Americas.

Building on the agreements forged at the last two Summits of the Americas in Miami and Santiago, we are witnessing unprecedented cooperation within our hemisphere. Efforts such as the negotiations on a Free Trade Area of the Americas, now progressing toward a concrete agreement in 2005, exemplify our commitment to building a self-sustaining and widely shared prosperity. We continue to work creatively through the Organization of American States to encourage constitutional solutions to political crises such as those that occurred in Paraguay and Ecuador. And we have witnessed elections in our region that were models of civic participation and a testament to the strength and vibrancy of democratic government in the Western Hemisphere. Such achievements illustrate that the well-being of our neighbors is fundamental to our own security and prosperity. We look forward to the Third Summit of the Americas in Quebec City, where the democratically elected leaders of 34 nations from North, Central, and South America will gather to review our progress, identify new challenges, and further enhance our cooperation.

Even with our significant progress, however, challenges remain. The 34 free and democratically elected nations of this hemisphere must work together to ensure that Cuba, the only country that has not embraced our common vision, becomes a member of our community of democracies. By doing so, we can ensure that all the people in our hemisphere share in the blessings of freedom and in the promise of the global economy, living and working and raising their families in dignity and with hope for the future.

NOW, THEREFORE I, WILLIAM J. CLINTON, President of the United States of America, by virtue of the authority vested in me by the Constitution and laws of the United States, do hereby proclaim Friday, April 14, 2000, as Pan American Day and April 9 through April 15, 2000 as Pan American Week. I urge the Governors of the 50 States, the Governor of the Commonwealth of Puerto Rico, and the officials of other areas under the flag of the United States to honor these observances with appropriate ceremonies and activities.

IN WITNESS WHEREOF, I have hereunto set my hand this eighth day of April, in the year of our Lord two thousand, and of the Independence of the United States of America the two hundred and twenty-fourth.

wj

[FR Doc. 00-9330

Filed 4-12-00; 8:45 am]

Billing code 3195-01-P